DEPARTMENT OF HEALTH AND HUMAN SERVICES

Food and Drug Administration

21 CFR Part 573

[Docket No. FDA-2023-F-2415]

Kemin Industries, Inc.; Filing of Food Additive Petition (Animal Use)

AGENCY: Food and Drug Administration, HHS.

ACTION: Notification of petition.

SUMMARY: The Food and Drug Administration (FDA or we) is announcing that we have filed a petition, submitted by Kemin Industries, Inc., proposing that the food additive regulations be amended to provide for the safe use of chromium propionate to be used as a source of chromium in turkey feed.

DATES: The food additive petition was filed on July 6, 2023.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Wasima Wahid, Center for Veterinary Medicine (HFV-221), Food and Drug Administration, 7519 Standish Pl., Rockville, MD 20855, 240-402-5857, Wasima.Wahid@fda.hhs.gov.

SUPPLEMENTARY INFORMATION: Under section 409(b)(5) of the Federal Food, Drug, and Cosmetic Act (21 U.S.C. 348(b)(5)), we are giving notice that we have filed a food additive petition (FAP 2318), submitted by Kemin Industries, Inc, 1900 Scott Ave., Des Moines, IA 50317. The petition proposes to amend in 21 CFR part 573—Food Additives Permitted in Feed and Drinking Water of Animals to provide for the safe use of chromium propionate to be used as a source of chromium in turkey feed.

We are reviewing the potential environmental impact of this petition. To encourage public participation consistent with regulations issued under the National Environmental Policy Act (40 CFR 1501.5(e)), we are placing the environmental assessment submitted with the petition that is the subject of this notice on public display at the Dockets Management Staff (see ADDRESSES) for public review and comment.

We will also place on public display, in the Dockets Management Staff and at https://www.regulations.gov, any amendments to, or comments on, the petitioner's environmental assessment without further announcement in the Federal Register. If, based on our review, we find that an environmental impact statement is not required, and this petition results in a regulation, we will publish the notice of availability of our finding of no significant impact and the evidence supporting that finding with the regulation in the Federal Register in accordance with 21 CFR 25.51(b).

Dated: July 24, 2023.
Lauren K. Roth,
Associate Commissioner for Policy.

[FR Doc. 2023-15913 Filed 7-26-23; 8:45 am]

BILLING CODE 4164-01-P